FEDERAL RETIREMENT THRIFT INVESTMENT BOARD

Notice of Board Meeting

DATES: February 23, 2021 at 10 a.m.

ADDRESSES: Telephonic. Dial-in (listen only) information: Number: 1-415-527-5035, Code: 199 823 1558; or via web: https://tspmeet.webex.com/tspmeet/onstage/g.php?MTID=e2efffcede5c039e6f0391d2594443262.

FOR FURTHER INFORMATION CONTACT: Kimberly Weaver, Director, Office of External Affairs, (202) 942-1640.

SUPPLEMENTARY INFORMATION:

Board Meeting Agenda

Open Session

1. Approval of the January 26, 2021 Board Meeting Minutes

2. Monthly Reports

(a) Participant Activity Report

(b) Investment Performance

(c) Legislative Report

3. Quarterly Reports

(d) Metrics

4. Multi-asset Manager Update

5. Federal Information Security Modernization Act (FISMA) Report

Closed Session

6. Information covered under 5 U.S.C. 552b (c)(9)(B) and (c)(10).

Informational Session

7. Records Management Training

Authority: 5 U.S.C. 552b(e)(1).

Dated: February 10, 2021.
Dharmesh Vashee,
Acting General Counsel, Federal Retirement Thrift Investment Board.

[FR Doc. 2021-03102 Filed 2-16-21; 8:45 am]

BILLING CODE P